DEPARTMENT OF COMMERCE

International Trade Administration

[A-351-806]

Silicon Metal from Brazil: Amended Final Results of Antidumping Duty Administrative Review

AGENCY: Import Administration, International Trade Administration, Department of Commerce.

ACTION: Notice of Amended Final Results of Antidumping Duty Administrative Review.

SUMMARY: We are amending our final results of the 1999-2000 administrative review of the antidumping duty order on silicon metal from Brazil, published on February 12, 2002 (67 FR 6488), to reflect the correction of ministerial errors made in the final results. The period covered by these amended final results of review is July 1, 1999 through June 30, 2000.

EFFECTIVE DATE: March 18, 2002.

FOR FURTHER INFORMATION CONTACT: Maisha Cryor, AD/CVD Enforcement, Office 4, Group II, Import Administration, International Trade Administration, U.S. Department of Commerce, 14th Street and Constitution Ave., N.W., Washington, D.C. 20230; telephone: (202) 482-5831.

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background:

On August 6, 2001, the Department of Commerce (the Department) published the preliminary results of the 1999-2000 administrative review of the antidumping duty order on silicon metal from Brazil. The Department published the final results of review on February 12, 2002. See Silicon Metal from Brazil; Final Results of Antidumping Duty Administrative Review, 67 FR 6488 (February 12, 2002) (Final Results).

On February 25, 2002, we received timely allegations from Companhia Brasileira Carbureto de Calcio (CBCC) (a respondent) that the Department made ministerial errors in the final results of review regarding CBCC. On February 25, 2002, we received timely allegations from American Silicon Technologies and Elkem Metals Company (collectively petitioners) that the Department made ministerial errors in the final results of review regarding the “all others” rate. On March 4, 2002, we received a timely reply from petitioners regarding CBCC's ministerial error comments.

Scope of Review

The merchandise covered by this administrative review is silicon metal from Brazil containing at least 96.00 percent but less than 99.99 percent silicon by weight. Also covered by this administrative review is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule (HTS) as a chemical product, but is commonly referred to as a metal. Semiconductor grade silicon (silicon metal containing by weight not less than 99.99 percent silicon and provided for in subheading 2804.61.00 of the HTS) is not subject to the order. Although the HTS item numbers are provided for convenience and for U.S. Customs purposes, the written description remains dispositive.

Amendment of Final Results

Comment 1: CBCC states that the Department erroneously applied adverse facts available (AFA) to the shipment date of one of its U.S. sales. CBCC contends that although the Department intended to use the date of the invoice to calculate the imputed U.S. credit expense for this sale, the Department erroneously applied AFA to the shipment date. CBCC urges the Department to correct this ministerial error.

Department's Position: After a review of CBCC's allegation, we agree with CBCC and have corrected this matter in the margin calculation program. See Memorandum to The File through Thomas F. Futtner from Maisha Cryor: Companhia Brasileira Carbureto De Calcio: Calculations for the Amended Final Results of the 1999-2000 Antidumping Duty Administrative Review of Silicon Metal From Brazil, March 11, 2002. We note that correcting this error has no effect on the outcome of CBCC's margin.

Comment 2: CBCC contends that the Department mistakenly used a simple interest formula to calculate CBCC's imputed credit expense in the home market. CBCC notes that although it is making this allegation, the comment is also applicable to the margin calculations of Rima Industrial SA (Rima), Companhia Ferroligas Minas Gerais - Minasligas (Minasligas) and Ligas de Aluminia S.A. (LIASA), the other respondents in this review. CBCC contends that where interest is calculated on a daily basis, a compound, not simple, interest formula should be used. CBCC argues that where the interest rate is high, such as in Brazil, only the compound interest formula yields the true cost of money and is the only method used in day-to-day commercial transactions. CBCC urges the Department to correct this matter in CBCC's, as well as the other respondents, home market credit calculations.

Petitioners disagree with CBCC. Petitioners argue that because the Department had no intention of applying a compound interest formula, the Department's use of a simple interest formula was a deliberate choice of methodology and not a ministerial error.

Department's Position: After a careful review of CBCC's allegation, we have concluded that it does not merit treatment as a ministerial error under sections 19 CFR 351.224(f) and (g) of the Department's regulations. Section 351.224(f) of the Department's regulations defines ministerial error as “* * * an error in addition, subtraction, or other arithmetic function, clerical error resulting from inaccurate copying, duplication, or the like, and any other similar type of unintentional error which the Secretary considers ministerial.” Because the formula used in the Department's calculation of home market credit expense in the Final Results was intentional, CBCC's allegation does not fall under sections 19 CFR 351.224(f) and (g) of the Department's regulations. See Memorandum to The File through Thomas F. Futtner from Maisha Cryor: Companhia Brasileira Carbureto De Calcio: Calculations for the Final Results of the 1999-2000 Antidumping Duty Administrative Review of Silicon Metal From Brazil, February 4, 2002. Therefore, we have not amended the interest formula that was used to calculate home market credit expense in the Final Results.

Comment 3:

Petitioners contend that the Department published the wrong “all others” rate in the Final Results. Petitioners state that in the Final Results, the “all others” rate is 8.10%, while the “all others” rate in the antidumping duty order on silicon metal from Brazil is 91.06%. Petitioners assert that, pursuant to Policy Bulletin 93.1, the Department's policy holds that the “all others rate shall be the all others rate contained in the order.”

Department's Position: We agree with petitioners that we mistakenly referred to the “all others” rate as 8.10 percent in the Final Results. Therefore, we have corrected the “all others” rate to reflect 91.06 percent, which is the “all others” rate from the less than fair value investigation.

Amended Final Results

We are amending the final results of the antidumping duty administrative review of silicon metal from Brazil to reflect the corrections of the above-cited ministerial errors. These corrections are in accordance with section 751(h) of the Act and 19 CFR 351.224 of the Department's regulations. These corrections did not change any of the company-specific margins published in the Final Results. We are also correcting the stated “all others” rate which is 91.06 percent.

We are issuing and publishing this determination and notice in accordance with sections 751(a)(1) and 777(i) of the Act.

March 11, 2002.
Faryar Shirzad,
Assistant Secretary for Import Administration.

[FR Doc. 02-6473 Filed 3-15-02; 8:45 am]

BILLING CODE 3510-DS-S